ENVIRONMENTAL PROTECTION AGENCY

[EPA-HQ-OPP-2010-0793; FRL-9527-3]

Information Collection Request Submitted to OMB for Review and Approval; Comment Request; Pesticide Environmental Stewardship Program Annual Measures Reporting

AGENCY: Environmental Protection Agency (EPA).

ACTION: Notice.

SUMMARY: The Environmental Protection Agency has submitted an information collection request (ICR), “Pesticide Environmental Stewardship Program Annual Measures Reporting” (EPA ICR No. 2415.01, OMB Control No. 2070-XXXX) to the Office of Management and Budget (OMB) for review and approval in accordance with the Paperwork Reduction Act (44 U.S.C. 3501 et seq.). This is request for approval of a new collection. Public comments were previously requested via the Federal Register (75 FR 66084) on October 27, 2010 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 6, 2013.

ADDRESSES: Submit your comments, referencing Docket ID Number EPA-HQ-OPP-2010-0793, to (1) EPA online using www.regulations.gov (our preferred method), by email to opp.ncic@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lily G. Negash, Field & External Affairs Division, 7506P, Environmental Protection Agency, 1200 Pennsylvania Ave. NW., Washington, DC 20460; telephone number: 703-347-8515; fax number: 703-305-5884; email address: negash.lily@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The Pesticide Environmental Stewardship Program (PESP or “the program” hereinafter) is an EPA voluntary program implemented by Environmental Protection Agency's (EPA) Office of Pesticide Programs (OPP). PESP's goal is to promote environmental stewardship to protect human health and the environment in accordance with Section 2(b) of the Pollution Prevention Act of 1990, 42 U.S.C. 13101(b) that “pollution should be prevented or reduced at the source whenever feasible,” and Section 3 of the Federal Insecticide, Fungicide, and Rodenticide Act (FIFRA) which requires EPA to regulate pesticides to prevent “unreasonable adverse effects.” The program encourages the use of integrated pest management (IPM) strategies to make the best stewardship choices from a series of pest management practices. It allows for economical pest management, and does so with the least possible hazard to people, property, and the environment.

This new information collection request (ICR) enables EPA to implement IPM through partnerships with its members which are pesticide user entities, and organizations which focus on training, educating, or influencing pesticide users. To become a PESP member, a pesticide user entity or an organization submits an application and a five-year strategy. The program uses the information collected to establish partner membership, develop stewardship strategies, offer technical assistance, measure progress towards stewardship goals, and award incentives. The stewardship strategy outlines how environmental and human health risk reduction goals will be achieved through the implementation of IPM, or through educating others on IPM. PESP encourages its members to track progress towards IPM goals: Reduced use of unnecessary pesticides, realize cost reductions, and share knowledge about IPM methodologies.

EPA has implemented procedures to protect any confidential, trade secret or proprietary information from disclosure that provide strict instructions regarding access to and contact with documents confidential business information (CBI). These procedures comply with EPA's CBI regulations at 40 CFR part 2.

Form Numbers: PESP Membership Application Form (EPA Form 9600-02); Strategy/Reporting Form for PESP Members that are Not Commercial/Residential Pest Control Services (EPA Form No. 9600-01); PESP Strategy/Progress Reporting Form for Residential/Commercial Pest Control Service Providers (EPA Form No. 9600-03).

Respondents/affected entities: Pesticide user companies and organizations, or entities that represent them, that are committed to reducing risks from pests and pesticides by practicing IPM; companies or organizations that promote the use of IPM through education and training. Below is a list of North American Industry Classification System (NAICS) codes and associated industries that may be affected by information collection requirements covered under this ICR. This list is intended to be illustrative; entities from other industries may elect to apply for recognition through PESP. However, EPA expects that most applications will come from the following industries:

NAICS code | Affected industry
11 | Agriculture, Forestry, Fishing and Hunting.
111 | Crop Production.
11142 | Nursery and Floriculture Production.
111421 | Nursery and Tree Production.
113 | Forestry and Logging.
22 | Utilities.
2211 | Electric Power Generation, Transmission and Distribution.
5617 | Services to Buildings and Dwellings.
56171 | Exterminating and Pest Control Services.
56172 | Janitorial Services.
56173 | Landscaping Services.
6111 | Elementary and Secondary Schools.
6112 | Junior Colleges.
6113 | Colleges, Universities, and Professional Schools.
622 | Hospitals.
6244 | Child Day Care Services.
71391 | Golf Courses and Country Clubs.
813312 | Environment, Conservation and Wildlife Organizations.

Respondent's obligation to respond: Required to obtain or retain a benefit.

Estimated number of respondents: 424 total PESP members.

Frequency of response: Varies depending on one of three required activities, which are, one-time membership application, annual reports, and five-year strategy updates.

Total estimated burden: 43,023 hours (per year). Burden is defined at 5 CFR 1320.03(b).

Total estimated cost: $2,755,363 (per year), includes $0 annualized capital or operation & maintenance costs.

Changes in the Estimates: There is no change in the total estimated respondent burden. This is a new ICR.

John Moses,
Director, Collection Strategies Division.

[FR Doc. 2013-02322 Filed 2-1-13; 8:45 am]

BILLING CODE 6560-50-P